SECURITIES AND EXCHANGE COMMISSION

Sunshine Act Meeting

Notice is hereby given, pursuant to the provisions of the Government in the Sunshine Act, Public Law 94-409, that the Securities and Exchange Commission will hold a market structure roundtable on Wednesday, June 2, 2010 at 9:30 a.m., in the Auditorium at SEC headquarters at 100 F Street, NE. in Washington, DC. The roundtable will be open to the public with seating on a first-come, first-served basis. Visitors will be subject to security checks.

The roundtable discussion will focus on key market structure issues, including high-frequency trading, undisplayed liquidity, and the appropriate metrics for evaluating market structure performance.

For further information, please contact the Office of the Secretary at (202) 551-5400.

Dated: May 26, 2010.
Elizabeth M. Murphy,
Secretary.

[FR Doc. 2010-13006 Filed 5-26-10; 11:15 am]

BILLING CODE 8010-01-P